DEPARTMENT OF TRANSPORTATION

Federal Aviation Administration

14 CFR Part 39

[Docket No. 2000-NM-136-AD; Amendment 39-11962; AD 2000-22-15]

RIN 2120-AA64

Airworthiness Directives; Boeing Model 747-100, -200B, -200C, -200F, and -300 Series Airplanes Delivered In or Modified Into the Stretched Upper Deck Configuration

AGENCY: Federal Aviation Administration, DOT.

ACTION: Final rule; request for comments.

SUMMARY: This amendment adopts a new airworthiness directive (AD) that is applicable to certain Boeing Model 747-100, -200B, -200C, -200F, and -300 series airplanes delivered in or modified into the stretched upper deck configuration. This action requires a one-time inspection to detect chafing between certain engine thrust control cables and certain cable penetration holes, and follow-on actions, if necessary. This action is necessary to prevent chafing and failure of engine thrust control cables, which could result in a severe asymmetric thrust condition during landing, and consequent reduced controllability of the airplane. This action is intended to address the identified unsafe condition.

DATES: Effective November 22, 2000.

The incorporation by reference of certain publications listed in the regulations was approved previously by the Director of the Federal Register as of April 24, 2000 (65 FR 14838, March 20, 2000).

Comments for inclusion in the Rules Docket must be received on or before January 8, 2001.

ADDRESSES: Submit comments in triplicate to the Federal Aviation Administration (FAA), Transport Airplane Directorate, ANM-114, Attention: Rules Docket No. 2000-NM-136-AD, 1601 Lind Avenue, SW., Renton, Washington 98055-4056. Comments may be inspected at this location between 9:00 a.m. and 3:00 p.m., Monday through Friday, except Federal holidays. Comments may be submitted via fax to (425) 227-1232. Comments may also be sent via the Internet using the following address: 9-anm-iarcomment@faa.gov. Comments sent via fax or the Internet must contain “Docket No. 2000-NM-136-AD” in the subject line and need not be submitted in triplicate. Comments sent via the Internet as attached electronic files must be formatted in Microsoft Word 97 for Windows or ASCII text.

The service information referenced in this AD may be obtained from Boeing Commercial Airplane Group, P.O. Box 3707, Seattle, Washington 98124-2207. This information may be examined at the FAA, Transport Airplane Directorate, 1601 Lind Avenue, SW., Renton, Washington; or at the Office of the Federal Register, 800 North Capitol Street, NW., suite 700, Washington, DC.

FOR FURTHER INFORMATION CONTACT: Dionne Krebs, Aerospace Engineer, Propulsion Branch, ANM-140S, FAA, Seattle Aircraft Certification Office, 1601 Lind Avenue, SW., Renton, Washington 98055-4056; telephone (425) 227-2250; fax (425) 227-1181.

SUPPLEMENTARY INFORMATION: On March 10, 2000, the FAA issued AD 2000-05-30, amendment 39-11640 (65 FR 14838, March 20, 2000), applicable to certain Boeing Model 747 series airplanes, to require repetitive inspections to detect discrepancies of the cables, fittings, and pulleys of the engine thrust control cable installation; replacement, if necessary; and, for certain airplanes, certain preventative actions on the engine thrust control cable installation. That action was prompted by reports of failure of engine thrust control cables. The requirements of that AD are intended to prevent such failures, which could result in a severe asymmetric thrust condition during landing, and consequent reduced controllability of the airplane.

Paragraph (g) of AD 2000-05-30 requires, for certain Model 747-100B series airplanes with a stretched upper deck (SUD), a detailed visual inspection and measurement of the clearance between certain engine thrust control cables and the cable penetration holes, and follow-on corrective actions, if necessary. Since the issuance of AD 2000-05-30, the FAA has determined that certain other Model 747 series airplanes delivered with or modified to have a SUD are subject to the same unsafe condition as the Model 747-100B SUD airplanes identified in paragraph (g) of the existing AD. Therefore, the FAA finds that further rulemaking is necessary to prevent chafing and failure of engine thrust control cables, which could result in a severe asymmetric thrust condition during landing, and consequent reduced controllability of the airplane, on all affected airplanes.

Explanation of Relevant Service Information

The FAA has previously reviewed and approved Boeing Service Bulletin 747-53-2327, Revision 2, dated September 24, 1998. That service bulletin describes procedures for repetitive inspections of certain upper deck floor beams to detect cracking, and repair of any cracks found or reinforcement of those floor beams. The service bulletin also describes procedures for a detailed inspection and measurement of the clearance between the engine thrust control cables and the cable penetration holes in that area, and modification of the holes or replacement of the plate, if necessary.

Explanation of Requirements of the Rule

Since an unsafe condition has been identified that is likely to exist or develop on other airplanes of the same type design, this AD is being issued to prevent chafing and failure of engine thrust control cables, which could result in a severe asymmetric thrust condition during landing, and consequent reduced controllability of the airplane. This AD requires accomplishment of the actions specified in the service bulletin described previously, except as discussed below.

Differences Between This AD and Relevant Service Bulletin

Operators should note that, although Boeing Service Bulletin 747-53-2327 describes procedures for inspection of certain upper deck floor beams, and repair of any cracks found or reinforcement of those floor beams, as applicable, this AD requires only the detailed visual inspection and measurement of the clearance between the engine thrust control cables and the cable penetration holes in that area. The inspection, repair, and reinforcement of certain upper deck floor beams are mandated by AD 92-24-07, amendment 39-8412 (57 FR 53436, November 10, 1992). The detailed visual inspection and measurement of the clearance between the engine thrust control cables and the cable penetration holes was incorporated into the service bulletin after AD 92-24-07 was issued. Therefore, the FAA is requiring that part of the service bulletin in this AD. In addition, for airplanes on which insufficient clearance is measured, this AD adds an additional inspection of the cable for wear in that area using procedures referenced in Appendix 1 (including Figure 1) of this AD and would require replacement of the cable, if necessary.

Operators also should note that the effectivity listing of Boeing Service Bulletin 747-53-2327, Revision 2, includes Boeing Model 747-400 series airplanes. However, the actions required by this AD are not applicable to Model 747-400 series airplanes, so those airplanes are not included in the applicability of this AD.

Cost Impact

None of the airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required inspection, at an average labor rate of $60 per work hour. Based on these figures, the cost impact of this AD would be $60 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Submit comments using the following format:

• Organize comments issue-by-issue. For example, discuss a request to change the compliance time and a request to change the service bulletin reference as two separate issues.

• For each issue, state what specific change to the AD is being requested.

• Include justification (e.g., reasons or data) for each request.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 2000-NM-136-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-22-15 Boeing: Amendment 39-11962. Docket 2000-NM-136-AD.

Applicability: Model 747-100, -200B, -200C, -200F, and -300 series airplanes; certificated in any category; equipped with Pratt & Whitney Model JT9D-3 or -7 series engines, General Electric Model CF6-45 or -50 series engines, or Rolls-Royce Model RB211-524B, C, or D series engines; delivered in or modified into the stretched upper deck (SUD) configuration; and having angle assemblies with Boeing part numbers 015U0454-63 and 015U0454-64 installed at body station 970.

Note 1: Model 747-100 SUD series airplanes on which paragraph (g) of AD 2000-05-30 has been accomplished are not required to comply with this AD.

Note 2: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent chafing and failure of engine thrust control cables, which could result in a severe asymmetric thrust condition during landing, and consequent reduced controllability of the airplane, accomplish the following:

Inspection/Modification/Replacement

(a) Within 18 months after the effective date of this AD, perform a detailed visual inspection and measure the clearance between the engine thrust control cables and the cable penetration holes, in accordance with the Cable Chafing Inspection of the Accomplishment Instructions of Boeing Service Bulletin 747-53-2327, Revision 2, dated September 24, 1998. If insufficient clearance exists, as specified in the service bulletin, prior to further flight, accomplish paragraphs (a)(1) and (a)(2) of this AD.

(1) Modify the cable penetration holes or replace the plate, as applicable, in accordance with Figure 7 of the service bulletin.

(2) Perform a detailed visual inspection of the engine thrust control cables in the area of the plate to detect wear and broken wires in accordance with Appendix 1 (including Figure 1) of this AD. If any wear is within the criteria contained in Appendix 1 (including Figure 1) of this AD, no further action is required by this paragraph. If any wear outside the criteria contained in Appendix 1 (including Figure 1) of this AD is found, prior to further flight, replace the cable with a new cable, in accordance with the procedures described in the Boeing 747 Maintenance Manual.

Note 3: For the purposes of this AD, a detailed visual inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Alternative Methods of Compliance

(b) An alternative method of compliance or adjustment of the compliance time that provides an acceptable level of safety may be used if approved by the Manager, Seattle Aircraft Certification Office (ACO), FAA. Operators shall submit their requests through an appropriate FAA Principal Maintenance Inspector, who may add comments and then send it to the Manager, Seattle ACO.

Note 4: Information concerning the existence of approved alternative methods of compliance with this AD, if any, may be obtained from the Seattle ACO.

Special Flight Permits

(c) Special flight permits may be issued in accordance with sections 21.197 and 21.199 of the Federal Aviation Regulations (14 CFR 21.197 and 21.199) to operate the airplane to a location where the requirements of this AD can be accomplished.

Incorporation by Reference

(d) Except as provided by paragraph (a)(2) of this AD, the actions shall be done in accordance with Boeing Service Bulletin 747-53-2327, Revision 2, dated September 24, 1998. This incorporation by reference was approved previously by the Director of the Federal Register as of April 24, 2000 (65 FR 14838, March 20, 2000). Copies may be obtained from Boeing Commercial Airplane Group, P.O. Box 3707, Seattle, Washington 98124-2207. Copies may be inspected at the FAA, Transport Airplane Directorate, 1601 Lind Avenue, SW., Renton, Washington; or at the Office of the Federal Register, 800 North Capitol Street, NW., suite 700, Washington, DC.

Effective Date

(e) This amendment becomes effective on November 22, 2000.

APPENDIX 1—THRUST CONTROL CABLE INSPECTION PROCEDURE

1. Detailed Visual Inspection To Detect Wear

A. Perform a detailed visual inspection of the engine thrust control cables in the area of the plate to detect wear.

B. Replace the cable assembly if any of the following criteria are met:

(1) One cable strand had worn wires where one wire cross section is decreased by more than 40 percent (see Figure 1).

(2) A kink is found.

(3) Corrosion is found.

2. Inspection To Detect Broken Wires

A. To check for broken wires, rub a cloth along the length of the cable. The cloth catches on broken wires.

B. Replace the cable assembly if any of the following criteria are met.

(1) Replace the 7x7 cable assembly if there are two or more broken wires in 12 continuous inches of cable or there are three or more broken wires anywhere in the total cable assembly.

(2) Replace the 7x19 cable assembly if there are four or more broken wires in 12 continuous inches of cable or there are six or more broken wires anywhere in the total cable assembly.

BILLING CODE 4910-13-P

Issued in Renton, Washington, on October 30, 2000.
Donald L. Riggin,
Acting Manager, Transport Airplane Directorate, Aircraft Certification Service.

[FR Doc. 00-28233 Filed 11-6-00; 8:45 am]

BILLING CODE 4910-13-P